DEPARTMENT OF DEFENSE

Office of the Secretary of Defense

Renewal of the Defense Business Board

ACTION: Notice.

SUMMARY: The Defense Business Board has been renewed in consonance with the public interest, and in accordance with the provisions of Public Law 92-463, The “Federal Advisory Committee Act.” The Defense Business Board provides the Secretary of Defense independent advice and recommendations on effective strategies for the implementation of best business practices of interest to the Department of Defense.

The Defense Business Board consists of a balanced membership of not more than 20 members, who are eminent authorities in the fields of management, production, logistics, personnel leadership, and defense industrial base.

FOR FURTHER INFORMATION CONTACT: Please contact Ms. Kelly Van Niman at 703-697-2346.

Dated: January 5, 2006.
L.M. Bynum,
Alternate OSD Federal Register Liaison Officer, Department of Defense.

[FR Doc. 06-216 Filed 1-10-06; 8:45 am]

BILLING CODE 5001-06-M